AGENCY FOR INTERNATIONAL DEVELOPMENT

Notice of Public Information Collection Requirements Submitted to OMB for Review

Summary: U.S. Agency for International Development (USAID) has submitted the following information collections to OBM for review and clearance under the Paperwork Reduction Act of 1995, Public Law 104-13. Comments regarding this information collection are best assured of having their full effect if received within 30 days of this notification. Comments should be sent via e-mail to David_Rostker@omb.eop.gov or fax to 202-395-7285. Copies of submission may be obtained by calling (202) 712-1365.

Supplementary Information:

OMB Number: OMB 0412-0514.

Form Number: N/A.

Title: USAID Regulation 1—Rules and Procedures Applicable to Commodity Transactions Financed by USAID (22 CFR part 201).

Type of Submission: Renewal of Information Collection.

Purpose: The U.S. Agency for International Development (USAID) finances transactions under Commodity Import Programs and needs to assure that the transaction complies with applicable statutory and regulatory requirements. In order to assure compliance and request refunds when appropriate, information is required from host country importers, suppliers receiving USAID funds, and banks making payments for USAID.

Annual Reporting Burden:

Respondents: 335.

Total annual responses: 2,643.

Total annual hours requested: 1,042 hours.

Dated: November 7, 2005.
Joanne Paskar,
Chief, Information and Records Division, Office of Administrative Services, Bureau for Management.

[FR Doc. 05-22847 Filed 11-17-05; 8:45am]

BILLING CODE 6116-01-M